INTERNATIONAL TRADE COMMISSION

Miscellaneous Tariff Bill (MTB) Petition System Submission of Petition and Comment Forms for OMB Review

AGENCY: United States International Trade Commission.

ACTION: Notice of submission of request for approval of a questionnaire to the Office of Management and Budget. This notice is being given pursuant to the Paperwork Reduction Act of 1995 (44 U.S.C. Chapter 35).

Purpose of Information Collection: The information requested by these forms is for use by the Commission in connection with evaluating miscellaneous tariff petitions submitted under the authority of American Manufacturing Competitiveness Act of 2016 (Pub. L. 114-159 approved May 20, 2016). Section 3 of this Act establishes a process for the submission and consideration of petitions and public comments for duty suspensions and reductions for imported goods in the Harmonized Tariff Schedule of the United States. The collection periods are 60-day periods starting October 15, 2016 and October 15, 2019.

Summary of Proposal:

(1) Number of forms submitted: 2.

(2) Title of forms: MTB Petition System: Information for Petitions Form and MTB Petition System: Information for Comments Form.

(3) Type of request: New.

(4) Frequency of use: Once.

(5) Description of affected industry: Domestic firms.

(6) Estimated number of petitioners and commenters: up to 5,000 petitions; 14,000 comments.

(7) Estimated total number of hours to complete the form: 8 hours for compiling information and submitting petitions and 2 hours to draft and submit comments.

(8) Information obtained from the forms that qualifies as confidential business information will be so treated by the Commission.

Additional Information or Comment: Copies of the forms and supporting documents may be obtained from Jennifer Rohrbach, USITC MTB Program Manager, Office of Operations (jennifer.rohrbach@usitc.gov or 202-205-2088) or Philip Stone, Office of Industries MTB Coordinator (philip.stone@usitc.gov or 202-205-3424). Comments about the proposal should be directed to the Office of Management and Budget, Office of Information and Regulatory Affairs, Room 10102 (Docket Library), Washington, DC 20503, ATTENTION: Docket Librarian. All comments should be specific, indicating which part of the form is objectionable, describing the concern in detail, and including specific suggested revisions or language changes. Copies of any comments should be provided to Kirit Amin, Chief Information Officer, U.S. International Trade Commission, 500 E Street SW., Washington, DC 20436, who is the Commission's designated Senior Official under the Paperwork Reduction Act. General information concerning the Commission may also be obtained by accessing its Internet address (https://www.usitc.gov). Hearing-impaired individuals are advised that information on this matter can be obtained by contacting the TDD terminal on 202-205-1810. Persons with mobility impairments who will need special assistance in gaining access to the Commission should contact the Secretary at 202-205-2000.

By order of the Commission.
Issued: August 22, 2016.
Lisa R. Barton,
Secretary to the Commission.

[FR Doc. 2016-20406 Filed 8-24-16; 8:45 am]

BILLING CODE 7020-02-P